CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed renewal of its President's Volunteer Service Award (PVSA) application, Parts A, B, C, D, and E. These applications must be completed by any organization that is interested in presenting the President's Volunteer Service Award. The President's Volunteer Service Award was established in 2003 as a recognition program to honor Americans who answered the President's call to service and made a sustained commitment to volunteer service.

Copies of the information collection requests can be obtained by contacting the office listed in the addresses section of this notice.

DATES: Written comments must be submitted to the individual and office listed in the ADDRESSES section by November 17, 2006.

ADDRESSES: You may submit comments, identified by the title of the information collection activity, by any of the following methods:

(1) By mail sent to: Corporation for National and Community Service, Office of the CEO; Attention Kari Dunn, Executive Director President's Council on Service and Civic Participation; 1201 New York Avenue, NW., Washington, DC, 20525.

(2) By hand delivery or by courier to the Corporation's mailroom at Room 6010 at the mail address given in paragraph (1) above, between 9 a.m. and 4 p.m. Monday through Friday, except Federal holidays.

(3) By fax to: (202) 606-3460, Attention Kari Dunn, Executive Director President's Council on Service and Civic Participation

(4) Electronically through the Corporation's e-mail address system: kdunn@cns.gov.

FOR FURTHER INFORMATION CONTACT: Kari Dunn, (202) 606-6708, or by e-mail at kdunn@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

In January of 2002, in his State of the Union Address, President Bush called on all Americans to dedicate 4,000 hours or two years of their lives to volunteer service. He created the USA Freedom Corps, a coordinating office at the White House to oversee these efforts and to bring increased attention to the ways in which the Administration could work together to enhance opportunities for all Americans to serve their neighbors and their nation. The response has been positive. Last year, 64.5 million Americans volunteered, an increase of more than 5 million since 2002.

The President's Volunteer Service Award (PVSA) is one initiative that grew out of the USA Freedom Corps and the President's Council on Service and Civic Participation as a way to honor those Americans who were answering the President's call to service. The PVSA application is completed by any organization interested in honoring their volunteers with the President's Volunteer Service Award. The application may be completed electronically using an on-line form at http://www.presidentialserviceawards.gov. or by printing off and submitting the form via mail.

Type of Review: Renewal.

Agency: Corporation for National and Community Service.

Title: President's Volunteer Service Award Applications.

OMB Number: 3045-0086.

Agency Number: None.

Affected Public: Not-for-profit organizations

Total Respondents: 40,000.

Frequency: On occasion.

Average Time per Response: 15 minutes.

Estimated Total Burden Hours: 10,000 hours.

Total Burden Cost (capital/startup): None.

Total Burden Cost (operating/maintenance): None.

Comments submitted in response to this notice will be summarized and/or included in the request for Office of Management and Budget approval of the information collection request; they will also become a matter of public record.

Dated: September 8, 2006.
Amy Mack,
Chief of Staff.

[FR Doc. E6-15406 Filed 9-15-06; 8:45 am]

BILLING CODE 6050-$$-P